DEPARTMENT OF TRANSPORTATION

Federal Aviation Administration

14 CFR Part 71

[Docket No. FAA-2005-20446; Airspace Docket No. 05-AAL-04]

RIN 2120-AA66

Proposed Establishment of Area Navigation Routes (RNAV), Alaska

AGENCY: Federal Aviation Administration (FAA), DOT.

ACTION: Notice of proposed rulemaking (NPRM).

SUMMARY: This action proposes to establish 39 low altitude area navigation (RNAV) routes in Alaska to support the Alaskan Capstone Program. The FAA is proposing this action to enhance safety and improve the efficient use of the navigable airspace in Alaska.

DATES: Comments must be received on or before April 28, 2005.

ADDRESSES: Send comments on this proposal to the Docket Management System, U.S. Department of Transportation, Room Plaza 401, 400 Seventh Street, SW., Washington, DC 20590-0001. You must identify FAA Docket No. FAA-2005-20446 and Airspace Docket No. 05-AAL-04, at the beginning of your comments. You may also submit comments through the Internet at http://dms.dot.gov.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-20446 and Airspace Docket No. 05-AAL-04) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-20446 and Airspace Docket No. 05-AAL-04.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 222 West 7th Avenue #14, Anchorage, AK 99513.

Persons interested in being placed on a mailing list for future NPRM's should contact the FAA's Office of Rulemaking, (202) 267-9677, for a copy of Advisory Circular No. 11-2A, Notice of Proposed Rulemaking Distribution System, which describes the application procedure.

History

The Capstone program began in Southeast Alaska in October 2001, as part of the on-going National Airspace Redesign (NAR). The Capstone Program is an accelerated effort to improve aviation safety and efficiency through the installation of government-furnished Global Positioning System (GPS)-based avionics and data link communications suites in commercial aircraft. Compatible ground systems, equipment, and services will also be provided. The name “Capstone” is derived from the program's effect of drawing and holding together concepts and recommendations contained in reports from the Radio Technical Commission for Aeronautics (RTCA), the National Transportation Safety Board (NTSB), the Mitre Corporation's Center for Advanced Aviation System Development (CAASD), and Alaskan aviation industry representatives. In addition to the avionics suites, the Capstone Program will deploy a ground infrastructure for weather observation, data link communications, surveillance, and Flight Information Services (FIS) to improve safety and enable eventual implementation of new procedures. This specific effort focuses on developing and implementing navigation structure and operating method improvements to allow more flexible and efficient en route operations in the Alaska airspace environment.

In support of this program, the FAA is establishing RNAV routes to provide greater freedom to properly equipped users, and to achieve the safety and economic benefits of flying user selected non-restrictive routings. The new RNAV routes will be identified by the letter prefix “T,” followed by a number consisting of one to three digits. The International Civil Aviation Organization (ICAO) has allocated the “T” prefix, along with the number block 200 through 500 for use by the U.S. for designating domestic RNAV routes.

Related Rulemaking

On April 8, 2003, the FAA published the Designation of Class A, B, C, D, and E Airspace Areas; Air Traffic Service Routes, and Reporting Points rule in the Federal Register (68 FR 16943). This rule adopted certain amendments proposed in Notice No. 02-20, Area Navigation (RNAV) and Miscellaneous Amendments. The rule adopted and revised several definitions in FAA regulations, including Air Traffic Service Routes, to be in concert with ICAO definitions; and reorganized the structure of FAA regulations concerning the designation of Class A, B, C, D, and E airspace areas; airways; routes; and reporting points. The purpose of the rule was to facilitate the establishment of RNAV routes in the NAS for use by aircraft with advanced navigation system capabilities.

On May 9, 2003, the FAA published the Establishment of Area Navigation Routes (RNAV) rule in the Federal Register (68 FR 24864).

The Proposal

The FAA is proposing an amendment to Title 14 Code of Federal Regulations (14 CFR) part 71 (part 71) to establish 39 RNAV routes in Alaska, within the airspace assigned to the Anchorage Air Route Control Center (ARTCC). These routes were developed as part of the Capstone Program. These routes are being proposed to enhance safety, and to facilitate the more flexible and efficient use of the navigable airspace for en route instrument flight rules (IFR) operations within the State of Alaska.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2006—Area Navigation Routes

* * * * *

T-214 MOCHA to OME [New]
CUDUG | WP | (Lat. 55°56′30″ N., long. 134°31′15″ W.)
KODVE | WP | (Lat. 56°29′36″ N., long. 135°07′59″ W.)
BKA | VORTAC | (Lat. 56°51′34″ N., long. 135°33′05″ W.)
VAYKU | WP | (Lat. 57°27′36″ N., long. 136°24′37″ W.)
YAK | VORTAC | (Lat. 59°30′39″ N., long. 139°38′53″ W.)
MDO | VOR/DME | (Lat. 59°25′18″ N., long. 146°21′00″ W.)
HIMRU | WP | (Lat. 59°44′37″ N., long. 147°01′13″ W.)
GIPYE | WP | (Lat. 60°13′03″ N., long. 148°02′37″ W.)
JIMIN | WP | (Lat. 60°29′04″ N., long. 148°38′30″ W.)
FESTU | WP | (Lat. 60°56′43″ N., long. 149°42′44″ W.)
ANC | VOR/DME | (Lat. 61°09′03″ N., long. 150°12′24″ W.)
IVANN | WP | (Lat. 61°19′57″ N., long. 150°41′52″ W.)
RIKNE | WP | (Lat. 61°40′23″ N., long. 151°38′52″ W.)
COPMI | WP | (Lat. 62°03′48″ N., long. 152°47′14″ W.)
JULIS | WP | (Lat. 62°29′28″ N., long. 154°06′14″ W.)
MCG | VORTAC | (Lat. 62°57′04″ N., long. 155°36′41″ W.)
ECIKA | WP | (Lat. 63°12′35″ N., long. 156°52′55″ W.)
UNK | VOR/DME | (Lat. 63°53′31″ N., long. 160°41′04″ W.)
OME | VOR/DME | (Lat. 64°29′06″ N., long. 165°15′11″ W.)
T-216 YAK to HPB [New]
YAK | VORTAC | (Lat. 59°30′39″ N., long. 139°38′53″ W.)
FORAT | WP | (Lat. 60°11′09″ N., long. 144°08′27″ W.)
JOH | VOR/DME | (Lat. 60°28′51″ N., long. 146°35′58″ W.)
WILER | WP | (Lat. 60°45′09″ N., long. 148°38′42″ W.)
ANC | VOR/DME | (Lat. 61°09′03″ N., long. 150°12′24″ W.)
LICIG | WP | (Lat. 61°09′27″ N., long. 152°01′46″ W.)
VEILL | WP | (Lat. 61°08′16″ N., long. 154°15′46″ W.)
SQA | VOR/DME | (Lat. 61°05′55″ N., long. 155°38′04″ W.)
OPUGE | WP | (Lat. 60°53′20″ N., long. 160°08′24″ W.)
BET | VORTAC | (Lat. 60°47′05″ N., long. 161°49′27″ W.)
HPB | VOR/DME | (Lat. 61°30′52″ N., long. 166°08′04″ W.)
T-219 IIK to AIX [New ]
IIK | VOR/DME | (Lat. 59°56′34″ N., long. 164°02′04″ W.)
AIX | NDB/DME | (Lat. 60°23′06″ N., long. 166°12′53″ W.)
T-221 CDB to ORT [New]
CDB | VORTAC | (Lat. 55°16′03″ N., long. 162°46′27″ W.)
AKN | VORTAC | (Lat. 58°43′29″ N., long. 156°45′08″ W.)
CIVBA | WP | (Lat. 59°35′20″ N., long. 154°22′24″ W.)
TUCKS | WP | (Lat. 60°13′23″ N., long. 152°27′39″ W.)
ENA | VOR/DME | (Lat. 60°36′53″ N., long. 151°11′43″ W.)
ANC | VOR/DME | (Lat. 61°09′03″ N., long. 150°12′24″ W.)
BGQ | VORTAC | (Lat. 61°34′10″ N., long. 149°58′02″ W.)
SMOKY | WP | (Lat. 62°03′15″ N., long. 146°18′43″ W.)
GKN | VOR/DME | (Lat. 62°09′09″ N., long. 145°27′01″ W.)
SANKA | WP | (Lat. 62°20′31″ N., long. 144°39′28″ W.)
ORT | VORTAC | (Lat. 62°56′50″ N., long. 141°54′46″ W.)
T-223 ANC to EHM [New]
ANC | VOR/DME | (Lat. 61°09′03″ N., long. 150°12′24″ W.)
BLUGA | WP | (Lat. 60°46′22″ N., long. 151°55′07″ W.)
NONDA | WP | (Lat. 60°19′15″ N., long. 153°47′57″ W.)
FAGIN | WP | (Lat. 59°51′56″ N., long. 155°32′43″ W.)
DLG | VOR/DME | (Lat. 58°59′39″ N., long. 158°33′08″ W.)
EHM | NDB | (Lat. 58°39′21″ N., long. 162°04′33″ W.)
T-218 MARLO to BRW [New]
MARLO | WP | (Lat. 57°27′51″ N., long. 150°31′51″ W.)
ODK | VORTAC | (Lat. 57°46′30″ N., long. 152°20′23″ W.)
CEYTA | WP | (Lat. 58°02′40″ N., long. 153°30′00″ W.)
UCILO | WP | (Lat. 58°36′28″ N., long. 156°09′16″ W.)
AKN | VORTAC | (Lat. 58°43′29″ N., long. 156°45′08″ W.)
YENYU | WP | (Lat. 59°16′27″ N., long. 158°00′00″ W.)
JOSKU | WP | (Lat. 60°30′00″ N., long. 161°03′12″ W.)
BET | VORTAC | (Lat. 60°47′05″ N., long. 161°49′27″ W.)
OCETO | WP | (Lat. 64°14′41″ N., long. 165°00′00″ W.)
OME | VOR/DME | (Lat. 64°29′06″ N., long. 165°15′11″ W.)
RIYKO | WP | (Lat. 65°30′00″ N., long. 164°10′25″ W.)
OTZ | VOR/DME | (Lat. 66°53′08″ N., long. 162°32′24″ W.)
FEBRI | WP | (Lat. 67°06′57″ N., long. 162°17′44″ W.)
DECEN | WP | (Lat. 69°48′41″ N., long. 159°00′00″ W.)
BRW | VOR/DME | (Lat. 71°16′24″ N., long. 156°47′17″ W.)
T-220 ANC to SSC [New]
ANC | VOR/DME | (Lat. 61°09′03″ N., long. 150°12′24″ W.)
TAGER | WP | (Lat. 61°40′23″ N., long. 150°27′37″ W.)
TKA | VOR/DME | (Lat. 62°17′55″ N., long. 150°06′20″ W.)
ENN | VORTAC | (Lat. 64°35′24″ N., long. 149°04′22″ W.)
COLAV | WP | (Lat. 66°26′59″ N., long. 148°42′14″ W.)
CQR | NDB | (Lat. 67°30′09″ N., long. 148°28′10″ W.)
CISLO | WP | (Lat. 69°29′58″ N., long. 148°25′52″ W.)
FCC | VOR/DME | (Lat. 70°11′57″ N., long. 148°24′58″ W.)
T-222 FAI to ADK NDB [New]
FAI | VORTAC | (Lat. 64°48′00″ N., long. 148°00′43″ W.)
ENN | VORTAC | (Lat. 64°35′24″ N., long. 149°04′22″ W.)
MCG | VORTAC | (Lat. 62°57′04″ N., long. 155°36′41″ W.)
BET | VORTAC | (Lat. 60°47′05″ N., long. 161°49′27″ W.)
IIK | VOR/DME | (Lat. 59°56′34″ N., long. 164°02′04″ W.)
SPY | NDB/DME | (Lat. 57°09′28″ N., long. 170°13′51″ W.)
ADK | NDB/DME | (Lat. 51°52′19″ N., long. 176°40′34″ W.)
T-224 ODK to BRW [New]
ODK | VORTAC | (Lat. 57°46′30″ N., long. 152°20′23″ W.)
CUCAR | WP | (Lat. 59°08′09″ N., long. 151°43′45″ W.)
HOM | VOR/DME | (Lat. 59°42′34″ N., long. 151°27′24″ W.)
SKILA | WP | (Lat. 60°29′28″ N., long. 150°38′25″ W.)
ANC | VOR/DME | (Lat. 61°09′03″ N., long. 150°12′24″ W.)
BGQ | VORTAC | (Lat. 61°34′10″ N., long. 149°58′02″ W.)
HIKOT | WP | (Lat. 62°41′41″ N., long. 149°20′12″ W.)
GEGEC | WP | (Lat. 64°02′00″ N., long. 148°31′07″ W.)
FAI | VORTAC | (Lat. 64°48′00″ N., long. 148°00′43″ W.)
FETPU | WP | (Lat. 65°55′16″ N., long. 146°20′13″ W.)
FYU | VORTAC | (Lat. 66°34′27″ N., long. 145°16′36″ W.)
CIPNU | WP | (Lat. 67°17′27″ N., long. 145°49′05″ W.)
EYAKA | WP | (Lat. 69°34′15″ N., long. 147°47′30″ W.)
SCC | VOR/DME | (Lat. 70°11′57″ N., long. 148°24′58″ W.)
BRW | VOR/DME | (Lat. 71°16′24″ N., long. 156°47′17″ W.)
T-225 HPB to FAI [New]
HPB | VOR/DME | (Lat. 61°30′52″ N., long. 166°08′04″ W.)
UNK | VOR/DME | (Lat. 63°53′31″ N., long. 160°41′04″ W.)
GAL | VORTAC | (Lat. 64°44′17″ N., long. 156°46′38″ W.)
TAL | VOR/DME | (Lat. 65°10′38″ N., long. 152°10′39″ W.)
FAI | VORTAC | (Lat. 64°48′00″ N., long. 148°00′43″ W.)
T-226 JOH to FYU [New]
JOH | VOR/DME | (Lat. 60°28′51″ N., long. 146°35′58″ W.)
FIDAL | WP | (Lat. 60°44′03″ N., long. 146°26′00″ W.)
ROBES | WP | (Lat. 61°05′51″ N., long. 146°11′25″ W.)
KLUNG | WP | (Lat. 61°45′32″ N., long. 145°43′58″ W.)
GKN | VOR/DME | (Lat. 62°09′09″ N., long. 145°27′01″ W.)
DOZEY | WP | (Lat. 62°25′04″ N., long. 145°29′11″ W.)
PAXON | WP | (Lat. 62°58′54″ N., long. 145°33′56″ W.)
DONEL | WP | (Lat. 63°40′22″ N., long. 145°39′54″ W.)
BIG | VORTAC | (Lat. 64°00′16″ N., long. 145°43′02″ W.)
HEXAX | WP | (Lat. 65°59′40″ N., long. 145°23′01″ W.)
FYU | VORTAC | (Lat. 66°34′27″ N., long. 145°16′36″ W.)
T-228 EHM to SHH [New]
EHM | NDB | (Lat. 58°39′21″ N., long. 162°04′33″ W.)
IIK | VOR/DME | (Lat. 59°56′34″ N., long. 164°02′04″ W.)
HPB | VOR/DME | (Lat. 61°30′52″ N., long. 166°08′04″ W.)
OME | VOR/DME | (Lat. 64°29′06″ N., long. 165°15′11″ W.)
HIKAX | WP | (Lat. 65°36′20″ N., long. 165°44′44″ W.)
SHH | NDB | (Lat. 66°15′29″ N., long. 166°03′09″ W.)
T-230 AK to SPY [New]
AK | NDB | (Lat. 58°44′14″ N., long. 156°46′40″ W.)
SPY | NDB/DME | (Lat. 57°09′28″ N., long. 170°13′51″ W.)
T-227 CD to SYA [New]
CD | NDB | (Lat. 55°17′46″ N., long. 162°47′21″ W.)
CIPIM | WP | (Lat. 54°52′50″ N., long. 165°03′15″ W.)
DUT | NDB/DME | (Lat. 53°54′19″ N., long. 166°32′57″ W.)
ADK | NDB/DME | (Lat. 51°52′19″ N., long. 176°40′34″ W.)
JANNT | WP | (Lat. 52°04′18″ N., long. 178°15′37″ W.)
SYA | NDB | (Lat. 52°43′19″ N., long. 174°03′37″ W.)
T-232 OLARU to BRW [New]
OLARU | WP | (Lat. 62°28′16″ N., long. 141°00′00″ W.)
ORT | VORTAC | (Lat. 62°56′50″ N., long. 141°54′46″ W.)
BIG | VORTAC | (Lat. 64°00′16″ N., long. 145°43′02″ W.)
FAI | VORTAC | (Lat. 64°48′00″ N., long. 148°00′43″ W.)
BTT | VOR/DME | (Lat. 66°54′18″ N., long. 151°32′09″ W.)
BRONX | WP | (Lat. 70°04′03″ N., long. 155°06′34″ W.)
BRW | VOR/DME | (Lat. 71°16′24″ N., long. 156°47′17″ W.)
T-234 FAI to RAMPA [New]
FAI | VORTAC | (Lat. 64°48′00″ N., long. 148°00′43″ W.)
TOLLO | WP | (Lat. 65°06′12″ N., long. 148°58′34″ W.)
RAMPA | WP | (Lat. 65°21′55″ N., long. 149°50′41″ W.)
T-236 ENN to RAMPA [New]
ENN | VORTAC | (Lat. 64°35′24″ N., long. 149°04′22″ W.)
RAMPA | WP | (Lat. 65°21′55″ N., long. 149°50′41″ W.)
T-238 RAMPA to BTT [New]
RAMPA | WP | (Lat. 65°21′55″ N., long. 149°50′41″ W.)
BTT | VOR/DME | (Lat. 66°54′18″ N., long. 151°32′09″ W.)
T-240 BTT to SCC [New]
EAV | NDB | (Lat. 66°53′36″ N., long. 151°33′49″ W.)
NAMRE | WP | (Lat. 69°06′29″ N., long. 149°34′00″ W.)
SCC | VOR/DME | (Lat. 70°11′57″ N., long. 148°24′58″ W.)
T-229 FAI to PHO [New]
FAI | VORTAC | (Lat. 64°48′00″ N., long. 148°00′43″ W.)
TAL | VOR/DME | (Lat. 65°10′38″ N., long. 152°10′39″ W.)
HSL | VOR/DME | (Lat. 65°42′22″ N., long. 156°22′14″ W.)
WLK | VOR/DME | (Lat. 66°36′00″ N., long. 159°59′30″ W.)
OTZ | VOR/DME | (Lat. 66°53′08″ N., long. 162°32′24″ W.)
PHO | NDB | (Lat. 68°20′41″ N., long. 166°47′51″ W.)
T-242 TKA to BRW [New]
TKA | VOR/DME | (Lat. 62°17′55″ N., long. 150°06′20″ W.)
JOKAP | WP | (Lat. 63°54′46″ N., long. 150°58′29″ W.)
KUTDE | WP | (Lat. 66°19′20″ N., long. 152°29′01″ W.)
LACIL | WP | (Lat. 69°30′18″ N., long. 155°00′34″ W.)
BRW | VOR/DME | (Lat. 71°16′24″ N., long. 156°47′17″ W.)
T-244 ANC to OME [New]
ANC | VOR/DME | (Lat. 61°09′03″ N., long. 150°12′24″ W.)
CAKAD | WP | (Lat. 61°18′24″ N., long. 150°43′12″ W.)
CEXIX | WP | (Lat. 61°29′52″ N., long. 151°21′58″ W.)
BETPE | WP | (Lat. 62°21′01″ N., long. 154°29′43″ W.)
CHEFF | WP | (Lat. 63°02′10″ N., long. 157°22′49″ W.)
CONFI | WP | (Lat. 63°49′03″ N., long. 161°13′59″ W.)
OME | VOR/DME | (Lat. 64°29′06″ N., long. 165°15′11″ W.)
T-246 ANC to GAL [New]
ANC | VOR/DME | (Lat. 61°09′03″ N., long. 150°12′24″ W.)
WEBIK | WP | (Lat. 63°07′48″ N., long. 155°29′18″ W.)
GAL | VORTAC | (Lat. 64°44′17″ N., long. 156°46′38″ W.)
T-248 ENM to ULL [New]
ENM | VOR/DME | (Lat. 62°47′00″ N., long. 164°29′16″ W.)
BICAP | WP | (Lat. 63°37′23″ N., long. 169°55′52″ W.)
ULL | VOR/DME | (Lat. 63°41′32″ N., long. 170°28′12″ W.)
T-250 BET to ULL [New]
BET | VOR/DME | (Lat. 60°47′05″ N., long. 161°49′27″ W.)
BANAT | WP | (Lat. 62°12′49″ N., long. 165°40′01″ W.)
ULL | VOR/DME | (Lat. 63°41′32″ N., long. 170°28′12″ W.)
T-231 FAI to OTZ [New]
FAI | VORTAC | (Lat. 64°48′00″ N., long. 148°00′43″ W.)
SIGME | WP | (Lat. 65°05′48″ N., long. 149°30′00″ W.)
ZUTUL | WP | (Lat. 66°28′24″ N., long. 158°30′00″ W.)
OTZ | VOR/DME | (Lat. 66°53′08″ N., long. 162°32′24″ W.)
T-252 OTZ to SCC [New]
OTZ | VOR/DME | (Lat. 66°53′08″ N., long. 162°32′24″ W.)
PERCI | WP | (Lat. 67°01′16″ N., long. 162°06′40″ W.)
WARRT | WP | (Lat. 69°21′10″ N., long. 153°00′00″ W.)
SCC | VOR/DME | (Lat. 70°11′57″ N., long. 148°24′58″ W.)
T-258 SHH to PHO [New]
SHH | NDB | (Lat. 66°15′29″ N., long. 166°03′09″ W.)
PHO | NDB | (Lat. 68°20′41″ N., long. 166°47′51″ W.)
T-233 EAV to AMF [New]
EAV | NDB | (Lat. 66°53′36″ N., long. 151°33′49″ W.)
ENCOR | WP | (Lat. 66°55′58″ N., long. 152°19′54″ W.)
KORKY | WP | (Lat. 67°05′33″ N., long. 157°00′01″ W.)
AMF | NDB/DME | (Lat. 67°06′24″ N., long. 157°51′29″ W.)
T-256 GAL to BRW [New]
GAL | VORTAC | (Lat. 64°44′17″ N., long. 156°46′38″ W.)
MEESE | WP | (Lat. 66°00′01″ N., long. 156°46′44″ W.)
NITTI | WP | (Lat. 67°00′01″ N., long. 156°46′49″ W.)
PANNT | WP | (Lat. 68°30′01″ N., long. 156°46′58″ W.)
OSSON | WP | (Lat. 69°35′59″ N., long. 156°47′05″ W.)
BRW | VOR/DME | (Lat. 71°16′24″ N., long. 156°47′17″ W.)
T-260 TNC to PHO [New]
TNC | NDB/DME | (Lat. 65°33′43″ N., long. 167°55′27″ W.)
COGNU | WP | (Lat. 65°48′29″ N., long. 167°50′06″ W.)
PHO | NDB | (Lat. 68°20′41″ N., long. 166°47′51″ W.)
T-235 ATK to UQS [New]
ATK | NDB | (Lat. 70°28′09″ N., long. 157°25′39″ W.)
UQS | NDB | (Lat. 70°12′45″ N., long. 151°00′00″ W.)
T-262 ODK to JOH [New]
ODK | VORTAC | (Lat. 57°46′30″ N., long. 152°20′23″ W.)
WUXAN | WP | (Lat. 59°53′00″ N., long. 149°00′00″ W.)
JOH | VOR/DME | (Lat. 60°28′51″ N., long. 146°35′58″ W.)
T-264 ODK to MDO [New]
ODK | VORTAC | (Lat. 57°46′30″ N., long. 152°20′23″ W.)
ZAXUM | WP | (Lat. 58°41′15″ N., long. 147°53′26″ W.)
MDO | VOR/DME | (Lat. 59°25′18″ N., long. 146°21′00″ W.)
T-237 HOM to MDO [New]
HOM | VOR/DME | (Lat. 59°42′34″ N., long. 151°27′24″ W.)
WUXAN | WP | (Lat. 59°53′00″ N., long. 149°00′00″ W.)
MDO | VOR/DME | (Lat. 59°25′18″ N., long. 146°21′00″ W.)
T-239 GAM to ULL [New]
GAM | NDB/DME | (Lat. 63°46′55″ N., long. 171°44′12″ W.)
ULL | VOR/DME | (Lat. 63°41′32″ N., long. 170°28′12″ W.)
T-266 CGL to FPN [New]
CGL | NDB | (Lat. 58°21′33″ N., long. 134°41′58″ W.)
FPN | NDB | (Lat. 56°47′32″ N., long. 132°49′15″ W.)
T-268 FPN to ICK [New]
FPN | NDB | (Lat. 56°47′32″ N., long. 132°49′15″ W.)
ICK | NDB | (Lat. 55°04′15″ N., long. 131°36′18″ W.)
T-241 LATCH to LVD [New]
LATCH | WP | (Lat. 56°00′45″ N., long. 134°35′54″ W.)
LVD | VOR/DME | (Lat. 56°28′04″ N., long. 133°04′59″ W.)

* * * * *

Issued in Washington, DC, on March 7, 2005.
Ellen E. Crum,
Acting Manager, Airspace and Rules.

[FR Doc. 05-4908 Filed 3-11-05; 8:45 am]

BILLING CODE 4910-13-P